DEPARTMENT OF ENERGY

10 CFR Part 1021

[DOE-HQ-2023-0063]

RIN 1990-AA48

National Environmental Policy Act Implementing Procedures; Extension of Comment Period

AGENCY: Office of the General Counsel, Department of Energy.

ACTION: Notice of proposed rulemaking; extension of comment period.

SUMMARY: On November 16, 2023, the U.S. Department of Energy (DOE or the Department) published a notice of proposed rulemaking proposing to amend its implementing procedures (regulations) governing compliance with the National Environmental Policy Act (NEPA). DOE requested public comments by January 2, 2024. DOE is now extending the comment period until January 16, 2024, to allow the public additional review and submission time for any comments on the proposed changes.

DATES: The comment period for the notice of proposed rulemaking published on November 16, 2023 (88 FR 78681) is extended. DOE must receive comments by January 16, 2024, to ensure consideration.

ADDRESSES: Documents relevant to this proposed rulemaking are posted at www.regulations.gov (Docket: DOE-HQ-2023-0063). Documents posted to this docket include: the notice of proposed rulemaking and DOE's Technical Support Document, which provides additional information regarding certain proposed changes and a redline/strikeout version of affected sections of the DOE NEPA regulations indicating the changes in the proposed rule.

Submit comments, labeled “DOE NEPA Implementing Procedures, RIN 1990-AA48,” by one of the following methods:

1. www.regulations.gov: Enter “Docket ID DOE-HQ-2023-0063” in the search box. Click on “Comment” to submit comments, which you may enter directly on the web page or by uploading in a file.

2. Postal Mail: Mail comments to NEPA Rulemaking Comments, Office of NEPA Policy and Compliance (GC-54), U.S. Department of Energy, 1000 Independence Avenue SW, Washington, DC 20585. Because security screening may delay mail sent through the U.S. Postal Service, DOE encourages electronic submittal of comments through www.regulations.gov.

3. Email: send comments to DOE-NEPA-Rulemaking@hq.doe.gov.

Instructions: For detailed instructions on submitting comments and additional information on the rulemaking process, see the “Public Participation—Submission of Comments” (section IV) of the SUPPLEMENTARY INFORMATION section of DOE's notice of proposed rulemaking.

FOR FURTHER INFORMATION CONTACT: For questions concerning how to comment on this proposed rule, contact Ms. Carrie Abravanel, Office of NEPA Policy and Compliance, at DOE-NEPA-Rulemaking@hq.doe.gov or (202) 586-4600.

SUPPLEMENTARY INFORMATION: On November 16, 2023, the U.S. Department of Energy (DOE or the Department) published a notice of proposed rulemaking proposing to amend its implementing procedures (regulations) governing compliance with the National Environmental Policy Act (NEPA) (88 FR 78681). The proposed changes would add a categorical exclusion for certain energy storage systems and revise categorical exclusions for upgrading and rebuilding transmission lines and for solar photovoltaic systems, as well as make conforming changes to related sections of DOE's NEPA regulations.

DOE has decided to extend the public comment period for 14 days to allow for additional review and submission time. Therefore, the public comment period for the notice of proposed rulemaking will now close on January 16, 2024.

Signing Authority

This document of the Department of Energy was signed on December 20, 2023, by Samuel T. Walsh, General Counsel, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on December 20, 2023.
Treena V. Garrett,
Federal Register Liaison Officer, U.S. Department of Energy.

[FR Doc. 2023-28429 Filed 12-22-23; 8:45 am]

BILLING CODE 6450-01-P